DEPARTMENT OF HEALTH AND HUMAN SERVICES

Centers for Disease Control and Prevention

Public Health Services Act; Delegation of Authority

Notice is hereby given that I have delegated to the Director, Office of Public Health Preparedness and Response (OPHPR), with authority to redelegate, the authority to:

• Release small quantities of any material from the Strategic National Stockpile (SNS) to provide intervention for specific individual conditions and the coordination of transportation assets to meet required deadlines.

• Release small quantities of any material from the SNS for testing and evaluation or to support government-required programs of vaccinations for persons at risk for specific conditions as a result of government job requirements.

• Advance deploy any material from the SNS to remain under CDC control without release to other government or non-government organizations in order to prepare for possible response needs

• Release any material from the SNS to comply with requirements as set forth by Homeland Security Presidential Directive 21 to share stockpiled assets with other federal government organizations when the material will be replaced by the receiving organization.

This delegation became effective upon date of signature. I hereby affirm and ratify any actions taken by the Director, OPHPR, which involve the exercise of these authorities prior to the effective date of this delegation.

Dated: April 26, 2010.
Thomas Frieden,
Director, CDC.

[FR Doc. 2010-11406 Filed 5-13-10; 8:45 am]

BILLING CODE 4160-18-M